CONSUMER PRODUCT SAFETY COMMISSION

Sunshine Act Meeting Notice

Time and Date: Wednesday September 10, 2014, 10 a.m.-12 p.m.

Place: Hearing Room 420, Bethesda Towers, 4330 East West Highway, Bethesda, Maryland.

Status: Commission Meeting—Open to the Public

Matter To Be Considered: Briefing Matter: Safety Standard for Magnet Sets—Final Rule

A live web cast of the Meeting can be viewed at www.cpsc.gov/live.

For a recorded message containing the latest agenda information, call (301) 504-7948.

Contact Person For More Information: Todd A. Stevenson, Office of the Secretary, U.S. Consumer Product Safety Commission, 4330 East West Highway, Bethesda, MD 20814, (301) 504-7923.

Dated: September 2, 2014.
Todd A. Stevenson,
Secretariat.

[FR Doc. 2014-21324 Filed 9-3-14; 4:15 pm]

BILLING CODE 6355-01-P